DEPARTMENT OF HEALTH AND HUMAN SERVICES

Administration for Children and Families

Proposed Information Collection Activity; Comment Request

Title: Building Bridges and Bonds (B3) Study: Data Collection.

OMB No.: New Collection.

Description: The Administration for Children and Families (ACF), Office of Planning, Research and Evaluation (OPRE) proposes to collect information as part of the Building Bridges and Bonds (B3) study. B3 will inform policymakers, program operators, and stakeholders about effective ways for fatherhood programs to support fathers in their parenting and employment. In particular, partnering with programs that serve low-income fathers to promote responsible fatherhood, the B3 study will examine the effectiveness of strategies used to (1) engage fathers in program activities, (2) develop and support parenting and co-parenting skills, and (3) advance the employment of disadvantaged fathers. B3 will test innovative, evidence-informed approaches that will be added to the core components of fatherhood programs and will reflect the most recent developments in behavioral science, adult skill-building, child development, and other relevant disciplines. The study will include up to six sites and specific interventions will vary by site.

B3 includes an impact evaluation and a process study. The impact evaluation will involve randomly assigning individuals to a treatment or comparison condition and comparing key outcomes. In addition, the study will collect information on employment, criminal justice and child support outcomes from administrative records. These data will be used to estimate the effects of the parenting or employment intervention on a range of outcomes including employment; earnings; child support; father/child contact, shared activities, and relationship quality; father's commitment to his child, parenting skills, and parenting efficacy; co-parenting relationship quality; and criminal justice outcomes.

The process study will describe and document each newly established intervention and how it operated to provide insight into the treatment differentials and the context for interpreting findings of the impact study. The process study will also highlight lessons to the field including what it takes to engage participants, the challenges sites face when implementing the parenting or employment intervention, and the participants' perspectives on whether the program components offered met their needs.

Data collection instruments for the B3 study include the following: (1) Screening for program eligibility to help ensure that only eligible fathers enroll in the study.

(2) nFORM management information system (MIS) to record study and participation information. Note: Only B3-specific burden is included with this request. All Responsible Fatherhood Grantees (funded by the ACF Office of Family Assistance) are required to use nFORM. nFORM is being developed by the Fatherhood and Marriage Local Evaluation and Cross-site (FaMLE Cross-site) Project and burden for these sites are captured under OMB #0970-0460. (3) Applicant characteristics and program operations data for one non-grantee site. We expect most of the B3 sites will be federally funded Responsible Fatherhood grantees, but it is possible that one site will not and therefore, this request includes burden for one site to use nFORM. (4) Baseline and follow-up surveys for the impact study. There will be two versions of each survey, specific to the intervention tested. (5) Baseline and follow-up questionnaires, interviews, focus groups, and surveys to inform the process study; these will also be specific to the intervention tested.

The sites that are part of the B3 study will use a slightly modified version of nFORM that includes B-3 specific information, such as: (1) B3-specific enrollment data (2) B3-specific information about focal child and co-parent in in sites testing a parenting intervention, and (3) B3 tracking of child and co-parent attendance in services with the father for program group members in sites testing a parenting intervention.

RESPONDENTS: Fathers seeking services from one of the six Responsible Fatherhood Programs in the B3 study and staff members working at the B3 sites.

Annual Burden Estimates
Instrument | Total number of respondents | Annual number of respondents | Number of responses per respondent | Average burden hours per response | Annual burden hours
Instruments for Recruitment and Screening
Screening questions for parenting intervention (applicant burden) | 4,000 | 1,333 | 1 | 0.03 | 44
Screening questions for parenting intervention (staff burden) | 48 | 16 | 83 | 0.03 | 44
Screening questions for employment intervention (applicant burden) | 2,000 | 667 | 1 | 0.17 | 111
Screening questions for employment intervention (staff burden) | 24 | 8 | 83 | 0.17 | 111
Consent/Assent Materials for Fathers (applicant burden) | 2,500 | 833 | 1 | 0.17 | 139
Consent/Assent Materials for Fathers (staff burden) | 72 | 24 | 35 | 0.17 | 139
Consent Materials for Parents of Fathers under 18 (applicant burden) | 833 | 278 | 1 | 0.17 | 46
Consent Materials for Parents of Fathers under 18 (staff burden) | 72 | 24 | 12 | 0.17 | 46
Recruitment script for parenting intervention (applicant burden) | 1,500 | 500 | 1 | 0.08 | 42
Recruitment script for parenting intervention (staff burden) | 48 | 16 | 31 | 0.08 | 42
Recruitment script for employment intervention (applicant burden) | 1,000 | 333 | 1 | 0.08 | 28
Recruitment script for employment intervention (staff burden) | 24 | 8 | 42 | 0.08 | 28
Instruments for Impact Study
B3-specific enrollment data collected in the nFORM MIS from all sample members (applicant burden) | 2,500 | 833 | 1 | 0.12 | 97
B3-specific enrollment data collected in the nFORM MIS from all sample members (staff burden) | 72 | 24 | 35 | 0.12 | 97
B3-specific information collected about focal child and co-parent in the nFORM MIS from program group members in sites testing parenting intervention (applicant burden) | 750 | 250 | 1 | 0.17 | 42
B3-specific information collected about focal child and co-parent in the nFORM MIS from program group members in sites testing parenting intervention (staff burden) | 48 | 16 | 16 | 0.17 | 42
B3 tracking of child and co-parent attendance in services with the father for program group members in sites testing parenting intervention (staff burden) | 48 | 16 | 156 | 0.01 | 21
Additional nFORM burden for non-Grantee site (applicant burden) | 600 | 200 | 1 | 0.25 | 50
Additional nFORM burden for non-Grantee site (staff burden) | 12 | 4 | 2,625 | 0.03 | 363
Baseline survey for sites testing parenting intervention | 1,500 | 500 | 1 | 0.67 | 333
Baseline survey for sites testing employment intervention | 1,000 | 333 | 1 | 0.67 | 222
6 month follow-up survey for sites testing parenting intervention | 1,200 | 400 | 1 | 0.67 | 267
6 month follow-up survey for sites testing employment intervention | 800 | 267 | 1 | 0.67 | 178
Instruments for Process Study
In-program participant questionnaire for program and control group members in sites testing parenting intervention | 1,500 | 500 | 1 | 0.5 | 250
In-program participant questionnaire for program and control group members in sites testing employment intervention | 1,000 | 333 | 1 | 0.5 | 167
Staff baseline questionnaire for sites testing parenting intervention | 208 | 69 | 1 | 0.5 | 35
Staff baseline questionnaire for sites testing employment intervention | 104 | 35 | 1 | 0.5 | 17
Staff and management semi-structured interviews for sites testing parenting intervention | 160 | 53 | 2 | 1.5 | 160
Staff and management semi-structured interviews for sites testing employment intervention | 80 | 27 | 2 | 1.5 | 80
Staff follow-up questionnaire for sites testing parenting intervention | 160 | 53 | 1 | 1.0 | 53
Staff follow-up questionnaire for sites testing employment intervention | 80 | 27 | 1 | 1.0 | 27
Participant focus groups | 96 | 32 | 1 | 1.5 | 48
Mother focus groups in sites testing parenting intervention | 80 | 27 | 1 | 1.0 | 27
Mobile device process survey | 2,000 | 667 | 5 | 0.08 | 278
Mobile device employment survey | 400 | 133 | 5 | 0.08 | 56
Mobile device parenting and co-parenting survey | 600 | 200 | 5 | 0.08 | 83
Post-workshop questionnaires for sites testing parenting intervention | 750 | 250 | 5 | 0.05 | 63

Estimated Total Annual Burden Hours: 3,876.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF Reports Clearance Officer.

[FR Doc. 2015-30337 Filed 11-30-15; 8:45 am]

BILLING CODE 4184-73-P